DEPARTMENT OF HEALTH AND HUMAN SERVICES

Food and Drug Administration

[Docket No. 84F-0331]

Quest International; Withdrawal of Food Additive Petition

AGENCY: Food and Drug Administration, HHS.

ACTION: Notice.

SUMMARY: The Food and Drug Administration (FDA) is announcing the withdrawal, without prejudice to a future filing, of a food additive petition (FAP 4A3817) proposing that the food additive regulations be amended to provide for the safe use of white mineral oil as a component of defoaming agents for use in the brewing of beer.

FOR FURTHER INFORMATION CONTACT: Andrew Zajac, Center for Food Safety and Applied Nutrition (HFS-265), Food and Drug Administration, 5100 Paint Branch Pkwy, College Park, MD 20740, 202-418-3095.

SUPPLEMENTARY INFORMATION: In a notice published in the Federal Register of October 25, 1984 (49 FR 42985), FDA announced that a food additive petition (FAP 4A3817) had been filed by J. E. Siebel Sons' Co., 4055 West Peterson Ave., Chicago, IL 60646. The petition proposed to amend the food additive regulations in § 173.340 Defoaming agents (21 CFR 173.340) to provide for the safe use of white mineral oil as defined by § 172.878(a) as a component of defoaming agents for use in the brewing of beer. On June 5, 2002, Quest International, 5115 Sedge Blvd., Hoffman Estates, IL 60192, informed FDA in writing that they had acquired J. E. Siebel Sons' Co. and had rights to FAP 4A3817. Quest International has now withdrawn the petition without prejudice to a future filing (21 CFR 171.7).

Dated: October 9, 2002.
Alan M. Rulis,
Director, Office of Food Additive Safety, Center for Food Safety and Applied Nutrition.

[FR Doc. 02-27047 Filed 10-23-02; 8:45 am]

BILLING CODE 4160-01-S